DEPARTMENT OF HEALTH AND HUMAN SERVICES

Food and Drug Administration

Memorandum of Understanding Between the Food and Drug Administration and the Environmental Protection Agency, Office of Research and Development

[FDA 225-04-4000]

AGENCY: Food and Drug Administration, HHS.

ACTION: Notice.

SUMMARY: The Food and Drug Administration (FDA) is providing notice of a memorandum of understanding (MOU) between FDA and the U.S. Environmental Protection Agency (EPA), Office of Research and Development. The purpose of the MOU is to expedite research and development of new methods and technologies that can be implemented in support of Homeland Security efforts by Federal, State or local government entities as well as authorized private sector organizations to avert and/or mitigate the effects of terrorist activities in the United States.

DATES: The agreement became effective February 19, 2003.

FOR FURTHER INFORMATION CONTACT: Frederick L. Fricke, Jr., Forensic Chemistry Center (HFR-CE500), Food and Drug Administration, 6751 Steger Dr., Cincinnati, OH 45237, 513-679-2700, ext. 180.

SUPPLEMENTARY INFORMATION: In accordance with 21 CFR 20.108(c), which states that all written agreements and MOUs between FDA and others shall be published in the Federal Register, the agency is publishing notice of this MOU.

Dated: January 9, 2004.
Jeffrey Shuren,
Assistant Commissioner for Policy.

BILLING CODE 4160-01-S

[FR Doc. 04-1263 Filed 1-21-04; 8:45 am]

BILLING CODE 4160-01-C